NUCLEAR REGULATORY COMMISSION

10 CFR Part 50

[Docket Nos. PRM-50-100; NRC-2011-0189]

Petition for Rulemaking Submitted by the Natural Resources Defense Council, Inc.

AGENCY: Nuclear Regulatory Commission.

ACTION: Petition for rulemaking; consideration in the rulemaking process.

SUMMARY: The U.S. Nuclear Regulatory Commission (NRC) will consider the issues raised in the petition for rulemaking (PRM), PRM-50-100, submitted by the Natural Resources Defense Council, Inc. (NRDC or the petitioner), in the rulemaking process. The petitioner requests that the NRC amend its regulations to require each operating and new reactor licensee to improve spent nuclear fuel safety. The NRC determined that the issues raised in the PRM are appropriate for consideration and will consider them in the ongoing “Station Blackout Mitigation Strategies” rulemaking.

DATES: The docket for the petition for rulemaking, PRM-50-100, is closed on July 23, 2013.

ADDRESSES: Please refer to Docket ID NRC-2011-0189 when contacting the NRC about the availability of information for this PRM. You can access publicly available documents related to the petition, which the NRC possesses and are publicly available, using any of the following methods:

• Federal Rulemaking Web site: Go to http://www.regulations.gov and search on the petition Docket ID NRC-2011-0189 or the Docket ID for the Station Blackout Mitigation Strategies rulemaking, NRC-2011-0299. Address questions about NRC dockets to Carol Gallagher; by telephone: 301-287-3422; or by email: Carol.Gallagher@nrc.gov. For technical questions, contact the individuals listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff by telephone at 1-800-397-4209, 301-415-4737, or by email to PDR.Resource@nrc.gov. The ADAMS accession number for each document referenced in this notice (if that document is available in ADAMS) is provided the first time that a document is referenced. The incoming petition is in ADAMS under Accession No. ML11216A240.

• NRC's PDR: You may examine and purchase copies of public documents at the NRC's PDR, Room O1-F21, One White Flint North, 11555 Rockville Pike, Rockville, Maryland 20852.

FOR FURTHER INFORMATION CONTACT: Tim Reed, Office of Nuclear Reactor Regulation, U.S. Nuclear Regulatory Commission, Washington, DC 20555; telephone: 301-415-1462; email: Timothy.Reed@nrc.gov; or Scott Sloan, Office of Nuclear Reactor Regulation, U.S. Nuclear Regulatory Commission, Washington, DC 20555; telephone: 301-415-1619; by email: Scott.Sloan@nrc.gov.

SUPPLEMENTARY INFORMATION:

I. The Petition

On September 20, 2011, the NRC published a notice of receipt in the Federal Register (76 FR 58165) of six PRMs filed by the NRDC, including PRM-50-100. The petitioner solely and specifically cited the “Recommendations for Enhancing Reactor Safety in the 21st Century: The Near-Term Task Force Review of Insights from the Fukushima Dai-ichi Accident,” (Fukushima Task Force Report, ADAMS Accession No. ML111861807) dated July 12, 2011, as the rationale for the PRMs. For PRM-50-100, the petitioner cited Section 4.2.4, pages 43-46, of the Fukushima Task Force Report, which discusses the enhancement of spent fuel pool makeup capability and instrumentation for the spent fuel pool. At the time of receipt of the PRMs, the Commission was still in the process of reviewing the Fukushima Task Force Report, and the NRC did not institute a public comment period for the PRMs.

In PRM-50-100, the petitioner requests the NRC to institute a rulemaking proceeding applicable to nuclear facilities licensed under Parts 50 and 52 of Title 10 of the Code of Federal Regulations and other applicable regulations to require licensees to (1) provide sufficient safety-related instrumentation, able to withstand design-basis natural phenomena, to monitor key spent fuel pool parameters (i.e., water level, temperature, and area radiation levels) from the control room; (2) provide safety-related alternating current (AC) electrical power for the spent fuel pool makeup system; (3) revise their technical specifications to address requirements to have one train of onsite emergency electrical power operable for spent fuel pool makeup and spent fuel pool instrumentation when there is irradiated fuel in the spent fuel pool, regardless of the operational mode of the reactor; and (4) have an installed seismically qualified means to spray water into the spent fuel pools, including an easily accessible connection to supply the water (e.g., using a portable pump or pumper truck) at grade outside the building.

II. Reasons for Consideration

The Commission has established a process for addressing a number of the recommendations in the Fukushima Task Force Report. In the Staff Requirements Memorandum for COMSECY-13-0002, “Consolidation of Japan Lessons Learned Near-Term Task Force Recommendations 4 and 7 Regulatory Activities,” dated March 4, 2013 (ADAMS Accession No. ML13063A548), the Commission directed the NRC staff to consider Fukushima Task Force Report Recommendation 7 actions along with the Station Blackout Mitigation Strategies rulemaking. The NRC determined that the issues raised in PRM-50-100 are similar to the actions of Recommendation 7.5 of the Fukushima Task Force Report. Therefore, the NRC will consider the issues raised in PRM-50-100 in the ongoing Station Blackout Mitigation Strategies rulemaking. The public will have the opportunity to provide comments on PRM-50-100 as part of that rulemaking. The NRC will consider the issues raised by the remaining NRDC PRMs through the process the Commission establishes for addressing the remaining recommendations in the Fukushima Task Force Report. This PRM docket is closed.

Dated at Rockville, Maryland, this 2nd day of July 2013.
For the Nuclear Regulatory Commission.
M.R. Johnson,
Deputy Executive Director for Reactor and Preparedness Programs.

[FR Doc. 2013-17658 Filed 7-22-13; 8:45 am]

BILLING CODE 7590-01-P